DEPARTMENT OF COMMERCE

National Oceanic and Atmospheric Administration

DEPARTMENT OF THE INTERIOR

Fish and Wildlife Service

RIN 0648-XL20

Habitat Conservation Plan for the City and County of San Francisco, through its Public Utilities Commission, for the Operation and Maintenance Activities of its Alameda Watershed, Alameda and Santa Clara Counties, California

AGENCIES: Fish and Wildlife Service (FWS), Interior; National Oceanic and Atmospheric Administration (NOAA), National Marine Fisheries Service (NMFS), Commerce.

ACTION: Notice of intent to prepare an Environmental Impact Statement/Environmental Impact Report (EIS/EIR); notice of public scoping meetings.

SUMMARY:

Pursuant to the National Environmental Policy Act (NEPA), the FWS and NMFS (Services), are issuing this notice to advise the public of our intent, in coordination with the San Francisco Planning Department, to conduct public scoping necessary to gather information to prepare a joint Environmental Impact Statement/Environmental Impact Report (EIS/EIR). The EIS/EIR will analyze the environmental effects of the of the Services' proposed issuance of an incidental take permit under the Endangered Species Act of 1973, as amended, (hereafter ESA or Act), for a Habitat Conservation Plan (Plan) within a portion of the Alameda Creek watershed. The permit applicant is the City and County of San Francisco through its Public Utilities Commission (SFPUC). The SFPUC intends to request a 30-year permit for five federally listed as threatened or endangered species and 12 unlisted species that may become listed during the term of the permit. The permit is needed to authorize the incidental take of threatened and endangered species that could occur as a result of the SFPUC's operations and maintenance activities on SFPUC lands within the Alameda Creek watershed.

The Services provide this notice to (1) describe the proposed Plan and possible alternatives; (2) advise other Federal and State agencies, affected Tribes, and the public of the intent to prepare an EIS/EIR; (3) announce the initiation of a public scoping period; and (4) obtain suggestions and information on the scope of issues and alternatives to be included in the EIS/EIR. Pursuant to the California Environmental Quality Act (CEQA), a separate Notice of Preparation for the EIS/EIR will be posted by the San Francisco Planning Department, Major Environmental Analysis (MEA) Division with the State Clearinghouse.

DATES: A public meeting will be held on Tuesday, January 13, 2009, from 6:30 p.m. to 9:00 p.m. Written comments should be received on or before January 21, 2009.

ADDRESSES: The public meeting will be held at the Dublin Civic Center, Regional Meeting Room, 100 Civic Plaza, Dublin, California.

Information, written comments, or questions related to the preparation of the EIS/EIR should be sent to: Sheila Larsen, Senior Fish and Wildlife Biologist, Sacramento Fish and Wildlife Office, 2800 Cottage Way, Room W-2605, Sacramento, CA 95825, facsimile (916) 414-6713; Gary Stern, San Francisco Bay Region Team Coordinator, National Marine Fisheries Service, Santa Rosa Area Office, 777 Sonoma Avenue, Room 325, Santa Rosa, CA 95404, facsimile (707) 578-3435; or via e-mail to SWR.AlamedaHCP@noaa.gov.

FOR FURTHER INFORMATION CONTACT: Sheila Larsen at (916) 414-6600; or Gary Stern at (707) 575-6060.

SUPPLEMENTARY INFORMATION:

Background

Section 9 of the Act and Federal regulations prohibit the “take” of wildlife species listed as endangered or threatened. The Act defines the term “take” as: to harass, harm, pursue, hunt, shoot, wound, kill, trap, capture or collect listed animal species, or attempt to engage in such conduct (16 USC 1532(19)). Harm includes significant habitat modification or degradation that actually kills or injures listed wildlife by significantly impairing essential behavioral patterns, including breeding, feeding and sheltering (50 CFR 17.3(c)). NMFS' definition of harm includes significant habitat modification or degradation where it actually kills or injures fish or wildlife by significantly impairing essential behavioral patterns, including breeding, feeding, spawning, migrating, rearing, and sheltering (64 FR 60727, November 8, 1999). Pursuant to Section 10(a) of the Act, the Services may issue a permit to authorize “incidental take” of listed species. “Incidental take” is defined by the Act as take that is incidental to, and not the purpose of, carrying out an otherwise lawful activity. The Services' regulations governing permits for threatened and endangered species, respectively, are promulgated in 50 CFR 17.32 and 50 CFR 17.22. NMFS regulations governing permits for threatened and endangered species are promulgated in 50 CFR 222.22.

Section 10(a) of the Act specifies requirements for the issuance of Incidental Take Permits (ITPs) to non-Federal landowners for the take of endangered and threatened species. Any proposed take must be incidental to otherwise lawful activities, not appreciably reduce the likelihood of the survival and recovery of the species in the wild, and minimize and mitigate the impacts of such take to the maximum extent practicable. In addition, an applicant must prepare a habitat conservation plan describing the impact that will likely result from such taking, the strategy for minimizing and mitigating the incidental take, the funding available to implement such steps, alternatives to such taking, and the reason such alternatives are not being implemented. To obtain ITPs the applicant must prepare a habitat conservation plan that meets the issuance criteria established by the Services (50 CFR 17.22(b)(2) and 222.307). Should permits be issued, the permits would include assurances under the Services' “No Surprises” regulations [50 CFR 17.22(b)(5) and 17.32(b)(5)].

Take of listed plant species is not prohibited under the Act and cannot be authorized under an ESA section 10 permit. The Services propose to include plant species on the permit in recognition of the conservation benefits provided for them under the Plan. Unlisted covered species would receive assurances under the Services' “No Surprises” regulations.

Currently, 17 species (Covered Species) are proposed for coverage under the Plan, including 5 federally listed species and 12 unlisted species that may become listed during the term of the permits. The 5 federally listed species are the endangered callippe silverspot butterfly (Speyeria callippe callippe) and the threatened California red-legged frog (Rana aurora draytonii); Alameda whipsnake (Masticophis lateralis euryxanthus); California tiger salamander (Ambystoma californiense); and Central California Coast steelhead (Oncorhynchus mykiss). The 12 unlisted species proposed for coverage are the foothill yellow-legged frog (Rana boylii); western pond turtle (Clemmys (=Actinemys) marmorata marmorata and C. (=Actinemys) m. pallida); Townsend's big-eared bat (Corynorhinus townsendii townsendii); Pacific lamprey (Lampetra tridentata); fall-run Chinook salmon (Oncorhynchus tshawytscha); tricolored blackbird (Agelaius tricolor); western burrowing owl (Athene cunicularia hypugaea); Diablo helianthella (Helianthella castanea); fragrant fritillary (Fritillaria liliacea); most beautiful jewelflower (Streptanthus alba ssp. peramoenus); robust monardella (Monardella villosa ssp. globosa); and round-leaved filaree (Erodium macrophyllum). Species may be added or deleted during the course of the proposed Plan development based on further analysis, new information, agency consultation, and public comment.

Proposed Plan

The southern Alameda Creek watershed (Alameda Watershed) encompasses 175 square miles of rolling grassland and native oak woodlands east of San Francisco Bay, California. The proposed Plan study area includes approximately 36,800 acres of Alameda Watershed lands owned by the SFPUC in Alameda and Santa Clara counties, plus approximately 9,900 acres immediately adjacent to SFPUC lands. The additional 9,900 acres include all privately owned, one-square mile (640 acres) sections of land adjacent to SFPUC lands on Poverty Ridge and Oak Ridge and all private lands on Apperson Ridge between the San Antonio Reservoir and lands owned by the East Bay Regional Park District. These privately owned lands are included in the study area because the SFPUC may purchase land or conservation easements from willing sellers under the proposed Plan for mitigation sites. The permits associated with the proposed Plan would authorize the take of listed species that may occur during ongoing operations and maintenance activities on SFPUC lands in the Alameda Watershed.

Activities covered by the proposed Plan (Covered Activities) include watershed operations and maintenance activities such as road maintenance and construction, culvert maintenance and replacement, bridge replacement and construction, fence maintenance and installation, vegetation management, riparian and pond habitat enhancement, pond spillway repair, stream restoration, and recreation activities, including elements of the Sunol Valley Landscape and Recreation Plan, on land owned and managed by the SFPUC. Covered Activities also include reservoir operations and maintenance activities such as operations of the Calaveras and San Antonio reservoirs, operations and maintenance of Alameda Creek Diversion Dam, reservoir shoreline erosion protection measures (grading and log placement along the shoreline) and restoration, boat-launch construction, vegetation and debris management on dams, and maintenance of sludge ponds. Water transmission and filtration-system operations and maintenance activities such as the opening and closing of valves to test proper functioning and pipeline maintenance will also be Covered Activities as well as lease/permit and easement activities (i.e., operations and management for livestock grazing, nurseries, golf courses, and telecommunication sites).

As part of the SFPUC's Water System Improvement Program (WSIP), some of the existing facilities included in the proposed Plan's covered activities may be modified, improved, or replaced. Proposed WSIP projects within the Plan study area include the Calaveras Dam Replacement Project, San Antonio Backup Pipeline, and improvements at the Sunol Valley Water Treatment Plant. The SFPUC proposes to address the effects of construction of WSIP projects through separate regulatory review and permitting processes. If an ITP is issued by the FWS and NMFS prior to the completion of environmental review of any WSIP projects in the Alameda watershed, FWS and NMFS will review the proposed WSIP project for consistency with the Plan. If either FWS or NMFS determines that the future operations and maintenance of the proposed WSIP project are not consistent with the Plan, an amendment to the Plan will be required.

Under the proposed Plan, the effects on covered species resulting from the Covered Activities are expected to be minimized and mitigated to the maximum extent practicable through implementation of a conservation program that includes conservation actions and monitoring, which will be fully described in the proposed Plan. This conservation program will focus on providing for the long-term management of biological communities in the Plan area that support Covered Species. The conservation strategy will implement best management practices throughout the watershed to minimize impacts from all SFPUC Covered Activities. The conservation strategy will provide mitigation for both temporary and ongoing impacts on Covered Species in the form of habitat enhancement, restoration, and, if necessary, protection of additional habitat.

Environmental Impact Statement/Report

The EIS/EIR will consider the proposed action, the issuance of section 10(a)(1)(B) permits under the Act, and several alternatives, representing varying levels of conservation, impacts from covered activities, the list of covered species, or a combination of these factors. Additionally, a No Action alternative will be included. Under the No Action alternative the Services would not issue section 10(a)(1)(B) permits. In addition, the EIS/EIR will identify potentially significant direct, indirect, and cumulative impacts on biological resources, land use, air quality, water quality, water resources, socioeconomics, and other environmental resources that could occur with the implementation of the proposed actions and alternatives. A detailed description of the impacts of the proposed action and each alternative will be included in the EIS/EIR. For all potentially significant impacts, the EIS/EIR will identify avoidance, minimization, and mitigation measures to reduce these impacts, where feasible, to a level below significance.

The primary purpose of the scoping process is for the public to assist the Services and the San Francisco Planning Department in developing the EIS/EIR by identifying important issues and alternatives related to the proposed action. FWS and NMFS propose to serve as co-lead Federal agencies under NEPA for preparation of the EIS. The San Francisco Planning Department will be the lead agency for preparation of the EIR under CEQA.

The Services request that comments be specific. In particular, we request information regarding: the direct, indirect, and cumulative impacts that implementation of the proposed Plan could have on endangered and threatened and other covered species, and their communities and habitats; other possible alternatives that meet the purpose and need; potential adaptive management and/or monitoring provisions; funding issues; existing environmental conditions in the plan area; other plans or projects that might be relevant to this proposed project; and minimization and mitigation efforts.

Written comments from interested parties are invited to ensure that the full range of issues related to the permit requests is identified. Comments will only be accepted in written form. You may submit written comments by mail, electronic mail to NMFS, facsimile transmission, or in person (see ADDRESSES). Before including your address, phone number, e-mail address, or other personal identifying information in your comment, you should be aware that your entire comment including your personal identifying information may be made publicly available at any time. While you can ask us in your comment to withhold your personal identifying information from public review, we cannot guarantee that we will be able to do so.

Reasonable Accommodation

Persons needing reasonable accommodations to attend and participate in the public meeting should contact Sheila Larsen at (916) 414-6600. To allow sufficient time to process requests, please call no later than one week before the public meeting. Information regarding this proposed action is available in alternative formats upon request.

Dated: December 15, 2008.
Richard E. Sayers, Jr.,
Acting Deputy Regional Director, Deputy Regional Director, California and Nevada Region, Sacramento, California.

Dated: December 16, 2008.
Angela Somma,
Chief, Endangered Species Division, National Marine Fisheries Service, Office of Protected Resources.

[FR Doc. E8-30374 Filed 12-19-08; 8:45 am]

BILLING CODES 4310-55-S, 3510-22-S